NUCLEAR REGULATORY COMMISSION

[Docket No. 40-0299]

Notice of Availability of Environmental Assessment and Finding of No Significant Impact for License Amendment for Umetco Minerals Corporation, East Gas Hills, WY

AGENCY: Nuclear Regulatory Commission.

ACTION: Notice of availability.

FOR FURTHER INFORMATION CONTACT: Paul Michalak, Project Manager, Fuel Cycle Facilities Branch, Division of Fuel Cycle Safety and Safeguards, Office of Nuclear Material Safety and Safeguards, U.S. Nuclear Regulatory Commission, Washington, DC 20555. Telephone: (301) 415-7612; fax number: (301) 415-5955; e-mail: pxm2@nrc.gov.

SUPPLEMENTARY INFORMATION:

I. Introduction

The Nuclear Regulatory Commission (NRC) proposes to issue a license amendment for License Condition 35 (alternate concentration limit (ACL) for ground water compliance monitoring), to Materials License SUA-648, for the Umetco Minerals Corporation (Umetco), East Gas Hills, Wyoming uranium mill site. The purpose of this amendment is to increase the Lead-210 (Pb-210) ACL from 46.7 pCi/L to 189 pCi/L in the Southwestern Flow Regime (SWFR). NRC has prepared an Environmental Assessment (EA) in support of this amendment in accordance with the requirements of 10 CFR part 51. Based on the EA, the NRC has concluded that a Finding of No Significant Impact (FONSI) is appropriate. The amendment will be issued following the publication of this Notice.

II. EA Summary

The staff has prepared the EA in support of the proposed license amendment. Much of the information relied upon in preparation of the EA was obtained from the licensee's ACL application and from two previous EAs for Umteco site activities related to their revised soil decommissioning plan and a recent application for several ACLs. Since this action relates to ground water, the primary focus of the evaluation of potential environmental impacts relates to ground water. In particular, current and future ground water use, and predicted concentrations of Pb-210 at the designated point of exposure were considered in the analysis. Staff has concluded that there would be no effect to the following resources: Visual resources, vegetation and soils, ambient air quality, and transportation. Staff has also determined that the proposed action is not the type of activity that has the potential to cause effects on cultural or historic resources.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are as follows:

Document | ADAMS accession No. | Date
NRC's EA for Umteco's Revised Soil Decommissioning Plan | ML010460319 | 2/23/2001
NRC's EA for Umteco's ACLs Application | ML020840234 | 3/24/2002
Umetco's ACL Amendment Request | ML051780369 | 6/17/2005
NRC's EA for ACL Amendment Request | ML060200288 | 1/20/2006

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O1 F21, One White Flint North, 11555 Rockville Pike, Rockville, MD 20852. The PDR reproduction contractor will copy documents for a fee.

Dated at Rockville, Maryland this 23rd day of January, 2006.
For the Nuclear Regulatory Commission.
Paul Michalak,
Project Manager, Fuel Cycle Facilities Branch, Division of Fuel Cycle Safety and Safeguards, Office of Nuclear Material Safety and Safeguards.

[FR Doc. E6-1045 Filed 1-26-06; 8:45 am]

BILLING CODE 7590-01-P